DEPARTMENT OF THE INTERIOR

Bureau of Land Management

[AZA22647 and AZA23294]

Public Land Order No. 7749; Extension of Public Land Order Nos. 6801 and 6812; Arizona

AGENCY: Bureau of Land Management, Interior.

ACTION: Public land order.

SUMMARY: This order extends the duration of two withdrawals created by Public Land Order Nos. 6801 and 6812 for an additional 20-year period. The extensions are necessary to continue to protect valuable facilities and improvements associated with the Smithsonian Institution's Fred Lawrence Whipple Observatory and Base Camp site.

DATES: Effective Date: September 19, 2010 (PLO No. 6801) and October 31, 2010 (PLO No. 6812).

FOR FURTHER INFORMATION CONTACT: Karl Sandwell-Weiss, U.S. Forest Service Coronado National Forest Office, Federal Building, 300 West Congress Street, Tucson, Arizona 85701, (520) 388-8348, or Vivian Titus, Bureau of Land Management, Arizona State Office, One North Central, Suite 800, Phoenix, Arizona 85004, (602) 417-9598.

SUPPLEMENTARY INFORMATION: To maintain the purpose for which the withdrawals were first made, an extension is required to continue to protect valuable facilities and improvements associated with the Smithsonian Institution's Fred Lawrence Whipple Observatory and Base Camp site. The facilities include the observatory, a visitor center, the administrative offices, a motor pool, and the picnic area. The lands continue to be used for the purpose for which they were withdrawn.

Order

By virtue of the authority vested in the Secretary of the Interior by Section 204 of the Federal Land Policy and Management Act of 1976, 43 U.S.C. 1714, it is ordered as follows:

1. Public Land Order No. 6801 (55 FR 38550, (1990)) that withdrew 61.356 acres of National Forest System lands from location or entry under the United States mining laws (30 U.S.C. chapter 2) on behalf of the U.S. Forest Service to protect valuable facilities and improvements for scientific work associated with the Smithsonian Institution's Fred Lawrence Whipple Observatory, is hereby extended for an additional 20-year period. Public Land Order No. 6801 will expire on September 18, 2030, unless, as a result of a new review conducted prior to the expiration date pursuant to Section 204(f) of the Federal Land Policy and Management Act of 1976, 43 U.S.C. 1714(f), the Secretary determines that the withdrawal shall be further extended.

2. Public Land Order No. 6812 (55 FR 45805, (1990)) that withdrew 40 acres of National Forest System lands from location or entry under the United States mining laws (30 U.S.C. chapter 2) on behalf of the U.S. Forest Service to protect valuable facilities and improvements associated with the Smithsonian Institution's Fred Lawrence Whipple Observatory Base Camp Site, is hereby extended for an additional 20-year period. Public Land Order No. 6812 will expire on October 30, 2030, unless, as a result of a new review conducted prior to the expiration date pursuant to Section 204(f) of the Federal Land Policy and Management Act of 1976, 43 U.S.C. 1714(f), the Secretary determines that the withdrawal shall be further extended.

Dated: September 7, 2010.
Wilma A. Lewis,
Assistant Secretary—Land and Minerals Management.

[FR Doc. 2010-23326 Filed 9-16-10; 8:45 am]

BILLING CODE 3410-11-P